BROADCASTING BOARD OF GOVERNORS

Notice of Membership of SES Performance Review Board

SUMMARY: Title 5 United States Code, Section 4314, requires that notice of the appointment of an individual to serve as a member of a performance review board shall be published in the Federal Register. The following individuals have been appointed to serve as PRB members for BBG; Laura Marin; Anne Purcell; and Gary Shinners.

ADDRESSES: Broadcasting Board of Governors, 330 Independence Ave., SW., Washington, DC 20237.

FOR FURTHER INFORMATION CONTACT: Prell Murphy, Acting Director of Human Resources; telephone (202) 619-3763.

Dated: February 21, 2007.
Janice H. Brambilla,
Executive Director.

[FR Doc. 07-901 Filed 2-27-07; 8:45 am]

BILLING CODE 8230-01-M